DEPARTMENT OF TRANSPORTATION

Federal Transit Administration

[Docket No: FTA-2007-0013]

National Transit Database: Amendments to Safety & Security Reporting Manual

AGENCY: Federal Transit Administration (FTA), DOT.

ACTION: Notice of Availability of Proposed Amendments to the 2008 National Transit Database Safety & Security Reporting Manual.

SUMMARY: This notice provides interested parties with the opportunity to comment on changes to the Federal Transit Administration's (FTA) 2008 National Transit Database (NTD) Safety & Security Reporting Manual (Safety & Security Manual). Pursuant to 49 U.S.C. 5335, FTA requires those transit agencies that are reporting to the NTD from urbanized areas to provide reports within 30 days of a major safety or security incident, and to provide a monthly report on minor safety and security incidents. In an ongoing effort to improve the NTD reporting system, and to be responsive to the needs of NTD data users and of the transit agencies reporting to the NTD, FTA annually refines and clarifies the Safety & Security Module reporting requirements through revisions to the Safety & Security Manual.

DATES: Comments must be received on or before December 21, 2007. FTA will consider comments filed after this date to the extent practicable.

ADDRESSES: You may submit comments [identified by DOT Docket ID Number FTA-2007-0013] at the Federal eRulemaking Portal at: http://www.regulations.gov. Follow the online instructions for submitting comments.

Fax: 202-493-2251.

Mail: Docket Management Facility: U.S. Department of Transportation, 1200 New Jersey Avenue, SE., West Building Ground Floor, Room W12-140, Washington, DC 20590-0001.

Hand Delivery or Courier: West Building Ground Floor, Room W12-140, 1200 New Jersey Avenue, SE., between 9 a.m. and 5 p.m. ET, Monday through Friday, except Federal holidays.

Instructions: When submitting comments you must use docket number FTA-2007-0013. This will ensure that your comment is placed in the correct docket. If you submit comments by mail, you should submit two copies and include the above docket number. Note that all comments received will be posted, without change, to http://www.regulations.gov including any personal identifying information.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry. Congress established the NTD to “help meet the needs of * * * the public for information on which to base public transportation service planning * * *” (49 U.S.C 5335).

Currently, over 650 transit agencies in urbanized areas report to the NTD through an Internet-based reporting system. Since 2002, the NTD has included an expanded Safety & Security Module in order to meet the increased public interest in transit safety and security data. Data from the Safety & Security NTD Module are used by FTA's Office of Safety and Security, the Department of Homeland Security, the National Transportation Safety Board, and in the biennial Conditions and Performance Report to Congress. NTD reporters are required to submit a report on major incidents to the Safety & Security Module within 30 days of the incident, and to submit a monthly summary report of minor incidents within 30 days of the end of the month. FTA is not proposing to change these requirements.

In an ongoing effort to improve the NTD reporting system, and to be responsive to the needs of NTD data users and of the transit agencies reporting to the NTD, FTA annually refines and clarifies the Safety & Security Module reporting requirements through revisions to the Safety & Security Manual. This notice provides interested parties with the opportunity to comment on changes to the 2008 Safety & Security Manual. For purposes of comparison, the 2007 Safety & Security Manual can be reviewed on the NTD Web site, http://www.ntdprogram.gov.

II. Proposed Changes in the 2008 Safety & Security Manual

Format Changes

FTA is overhauling the format of the NTD Safety & Security Module by instituting an interactive approach for major incident reporting. Instead of completing a static form, reporters will instead receive questions on an interactive basis, based on responses provided to the initial questions. This will greatly reduce reporting burden, by only providing reporters with questions relevant to the major incident reported. It will also reduce the number of validation errors, as reporters will be less likely to miss questions relevant to the major incident being reported, and so leave them blank.

The “Non-Major Incident” form has been renamed the “Security Summary Report Form” to better reflect the data collected. The form has also been redesigned for conciseness and to reduce reporting burden.

Eliminated Data Elements

FTA proposes dropping the requirement to provide the latitude and longitude of major incidents, except for ferryboat incidents, where such coordinates will still be required. FTA has found that latitude and longitude were inconsistently reported in the past, and believes that a verbal description of the incident location will provide the needed information for major incidents occurring on modes other than ferryboat.

FTA proposes dropping the requirement to provide the time zone in which the incident occurred. FTA notes that the time zone of the incident can be determined from the incident location in almost all cases.

Major Incident Threshold

FTA proposes to greatly simplify the threshold requirements for reporting a major incident. A major incident will now consist of any occurrence exceeding one of the following three thresholds:

• One or more fatalities;

• One or more reportable injuries (involving immediate medical transportation away from the scene); or

• Total property damage in excess of $25,000.

Previously, the property damage threshold was $7,500 for certain types of collisions. The increased threshold is established to decrease reporting burden, and to match the threshold used by FTA's State Safety Oversight Program.

Also, the previous threshold for injuries was one or more injuries for occurrences involving rail transit, on a rail right-of-way, or at a grade crossing, but the threshold was two or more injuries for all other occurrences. Occurrences with only one injury, but not meeting the threshold for a major incident, were reported on the monthly minor incident summary report form. FTA is establishing a threshold of one reportable injury for all occurrences, as it will be much simpler for reporters to understand, and in order to support the streamlining of the monthly minor incident summary form.

In addition, the following types of incidents will always constitute a major incident, without regard to the preceding thresholds:

• A mainline derailment;

• A fire requiring suppression; and

• A hazardous material spill posing an immediate threat to life, health, or the environment.

Previously, all mainline derailments were considered to be major incidents, and the new definitions continue to reflect this. FTA is now including fires and hazardous material spills as major incidents, but is only requiring limited information on the location and cause of the incident. Thus, the reporting burden will not be substantially increased for those fires and hazardous material spills that were previously reported as minor incidents.

FTA previously also required a major incident report for “evacuations due to life safety reasons.” FTA's experience with Safety & Security reporting, however, has indicated that “evacuations due to life safety reasons” always occur in conjunction with some other type of incident. As such, FTA has removed this “evacuations due to life safety reasons” as a threshold criterion. However, FTA still requires transit agencies to report “evacuations due to life safety reasons” whenever such an evacuation occurs in conjunction with another incident.

Additionally, FTA has eliminated the requirement for reporters to distinguish between the “primary occurrence” and the “secondary occurrence” for a major incident. Instead, reporters will simply report all data for an incident, without having to make a judgment as to what aspects of the incident were “primary” or “secondary.” This was done to reduce the reporting burden.

Definition of Fatalities

FTA will now consider suicides to be a fatality. This is done to reduce the substantial confusion caused by excluding suicides from the definition of “fatalities.” Additionally, research has indicated that many safety practices can reduce the number of suicides, and as such, FTA finds it prudent to include suicides in overall safety statistics.

Certification

FTA has added a standard form for the annual Chief Executive Officer (CEO) certification of data reported to the Safety & Security Module. This is done to reduce reporting burden on CEOs, and to provide a convenient summary of the key safety and security data elements for the CEO for review. This will also help the reporting transit agency identify any unintended errors or omissions from their Safety & Security Module submission.

“Acts of God”

At the request of several reporting transit agencies, FTA has added “Acts of God” as a causal factor of an occurrence producing fatalities, injuries, or more than $25,000 in property damage.

Lighting Conditions

For reporting on collisions, FTA is requesting transit agencies to report on the “lighting conditions” of the collision, in particular, if there was “light in the eyes” of the operator of either the transit vehicle or the other vehicle involved in the collision.

Other Changes

The NTD system now automatically requires the Safety & Security Configuration Form (the S&S-30 Form) to be completed prior to completing the first monthly report. Previously, reporters could provide monthly incident data without completing this Form. This automatic control is instituted to reduce the validation burden, as reporters will now receive an automatic notice if they attempt to provide incident data without having completed the S&S-30 Form.

Also, FTA has modified the available answers to many of the questions from the old Safety & Security forms to reduce unneeded answers, and to fill in gaps where the previously provided answers did not account for all possible reporting situations. These changes are non-substantive in nature, as they do not add any additional reporting requirements, but may be found in the full 2008 Safety & Security Reporting Manual, available on the NTD Web site at http://www.ntdprogram.gov.

Issued in Washington, DC, this 15th day of November, 2007.
James S. Simpson,
Administrator.

[FR Doc. E7-22768 Filed 11-20-07; 8:45 am]

BILLING CODE 4910-57-P